DEPARTMENT OF COMMERCE

Foreign-Trade Zones Board

[Docket 21-2004]

Foreign-Trade Zone 70—Detroit, Michigan Application for Expansion; Correction

The Federal Register notice (69 FR 30872, 6/01/2004) describing the application by the Greater Detroit Foreign-Trade Zone, grantee of FTZ 70, requesting authority to expand its zone in the Detroit, Michigan, area, is corrected as follows:

Paragraph 5 should read “The closing period for their receipt is August 2, 2004. Rebuttal comments in response to material submitted during the foregoing period may be submitted during the subsequent 15-day period (to August 17, 2004).”

Dated: June 10, 2004.
Dennis Puccinelli,
Executive Secretary.

[FR Doc. 04-13712 Filed 6-16-04; 8:45 am]

BILLING CODE 3510-DS-M